DEPARTMENT OF AGRICULTURE

Forest Service

Lassen National Forest, California, Lassen National Forest Public Wheeled Motorized Travel Management EIS

AGENCY: Forest Service, USDA.

ACTION: Notice of intent to prepare an Environmental Impact Statement.

SUMMARY: The Lassen National Forest (LNF) will prepare an Environmental Impact Statement to disclose the impacts associated with the following proposed actions: 1. The prohibition of wheeled motorized vehicle travel off designated National Forest System (NFS) roads, NFS trails and areas by the public except as allowed by permit or other authorization. 2. The addition of approximately 37 miles of unauthorized routes to the NFS of roads and motorized trails. 3. The addition of approximately 26 acres for open riding (10 areas), where use of wheeled motorized vehicles by the public would be allowed anywhere within the specifically delineated area. 4. Allowing non-highway legal vehicle use on approximately 12 miles of existing NFS roads where such use is currently prohibited.

DATES: The comment period on the proposed action will extend 30 days from the date the Notice of Intent is published in the Federal Register.

Completion of the Draft Environmental Impact Statement (DEIS) is expected in March of 2008 and the Final Environmental Impact Statement (FEIS) is expected in June of 2008.

ADDRESSES: Send electronic comments to: ltmrd@fs.fed.us. Send written comments to: Travel Management Team, Lassen National Forest, 2550 Riverside Drive, Susanville, CA 96130.

FOR FURTHER INFORMATION CONTACT: Allen Nosler, Lassen National Forest, 2550 Riverside Drive, Susanville, CA 96130. Phone: (530) 252-6637. E-mail: anosler@fs.fed.us.

SUPPLEMENTARY INFORMATION:

Background

Over the past few decades, the availability and capability of motorized vehicles, particularly off-highway vehicles (OHVs) and sport utility vehicles (SUVs) has increased tremendously. Nationally, the number of OHV users has climbed sevenfold in the past 30 years, from approximately 5 million in 1972 to 36 million in 2000. The ten states with the largest population also have the most OHV users. California has 4.35 million OHV users accounting for almost 11% of the U.S. total (Off-Highway Vehicle Recreation in the United States, Regions and States: A National Report from the National Survey on Recreation and the Environment (NSRE), Cordell, Betz, Green and Owens, June 2005). There were 786,914 all terrain vehicles (ATVs) and OHV motorcycles registered in 2004, up 330% since 1980. Annual sales of ATVs and OHV motorcycles in California were the highest in the U.S. for the last 5 years. Four-wheel drive vehicle sales in California also increased by 1500% to 3,046,866 from 1989 to 2002.

OHV recreation provides riding opportunities to some of California's most scenic areas. However, unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands” (USDA Forest Service, June 2004).

In January 2001, the Regional Forester issued management direction of all California national forests to prohibit OHV travel off designated routes and areas (FEIS for the Sierra Nevada Framework Project). This direction was re-affirmed in January 2004 with a supplemental FEIS for the Sierra Nevada Framework Project. On August 11, 2003, the Pacific Southwest Region of the Forest Service entered into a Memorandum of Intent (MOI) with the California Off-Highway Motor Vehicle Recreation Commission, and the Off-Highway Motor Vehicle Recreation Division of the California Department of Parks and Recreation. That MOI set in motion a region-wide effort to “Designate OHV roads, trails, and any specifically defined open areas for motorized wheeled vehicles on maps of the 18 National Forests in California by 2007.”

On November 9, 2005, the Forest Service published final travel management regulations in the Federal Register (FR Vol. 70, No. 216—Nov. 9, 2005, pp. 68264-68291). This final Travel Management Rule requires designation of those roads, trails, and areas that are open to motor vehicle use by the public on National Forests. Designations will be made by class of vehicle and, if appropriate, by time of year. The final rule prohibits the use of motor vehicles by the public off the designated system as well as use of motor vehicles on routes and in areas that are not designated.

On some NFS lands, long managed as open to cross-country motor vehicle travel, repeated use has resulted in unplanned and unauthorized roads and trails. These routes generally developed without environmental analysis or public involvement, and do not have the same status as NFS roads and NFS trails included in the forest transportation system. Nevertheless, some unauthorized routes are well-sited, provide excellent opportunities for outdoor recreation by motorized and non-motorized users, and would enhance the National Forest system of designated roads, trails and areas. Other unauthorized routes are poorly located and cause unacceptable impacts. Only NFS roads, NFS trails and open riding areas can be designated for wheeled motorized vehicle use. In order for an unauthorized route to be designated for use by the public, it must be added to the national forest transportation system (NFTS).

In accordance with the MOI, the LNF recently completed an inventory of unauthorized routes on NFS lands and identified approximately 1,145 miles of unauthorized routes. The LNF then used an interdisciplinary process to conduct travel analysis that included working with the public to determine whether any of the unauthorized routes should be proposed for addition to the LNF transportation system. Travel analysis developed a number of routes which could be considered in this or future decisions on the NFTS at the discretion of the Responsible Official. Roads, trails and areas that are currently part of the LNF transportation system and are open to wheeled motorized vehicle travel will remain designated for such use except as described below under the Proposed Action. This proposal focuses only on the prohibition of wheeled motorized vehicle travel off designated routes and areas and other needed changes to the LNF transportation system, including the addition of some user-created routes to the LNF transportation system and minor changes to existing motor vehicle restrictions. The proposed action is being carried forward in accordance with the Travel Management Rule (36 CFR Part 212).

In accordance with the rule, following a decision on this proposal, the Lassen National Forest will publish a Motor Vehicle Use Map (MVUM) identifying all LNF roads, trails and areas that are designated open for motor vehicle use by the public. The MVUM shall specify the classes of vehicles and, if appropriate, the times of year for which use is authorized. The MVUM will be updated and published annually (or more frequently if needed) when changes to the Forest's transportation system are made. Future decisions associated with changes to the MVUM may trigger the need for documentation of additional environmental analysis.

Purpose and Need for Action

The following needs have been identified for this proposal:

1. There is a need for regulation of unmanaged wheeled motorized vehicle travel by the public. Currently, wheeled motorized vehicle travel by the public is temporarily prohibited off existing routes and areas by Forest Order #06-07-1. The Forest Order became effective on July 12, 2007. Prior to that date, wheeled motorized vehicle travel off road was permitted in many LNF areas. In their enjoyment of the National Forest, motorized vehicle recreationists have created numerous unauthorized routes. The number of such routes continues to grow each year with many routes having environmental impacts and safety concerns that have not been addressed. The Travel Management Rule, 36 CFR part 212, provides policy for ending this trend of unauthorized route proliferation and managing the Forest transportation system in a sustainable manner through the designation of motorized NFS roads, trails and areas, and the prohibition of cross-country travel.

2. There is a need for limited changes and additions to the LNF transportation system to:

2.1. Provide wheeled motorized access to dispersed recreation opportunities (camping, hunting, fishing, hiking, horseback riding, etc.)

2.2. Provide a diversity of wheeled motorized recreation opportunities (4X4 vehicles, motorcycles, ATVs, passenger vehicles, etc.)

It is Forest Service policy to provide a diversity of motorized road and trail opportunities for experiencing a variety of environments and modes of travel consistent with the LNF land capability (FSM 2353.03(2)). In meeting these needs the proposed action must also achieve the following purposes:

A. Avoid impacts to cultural resources.

B. Provide for public safety.

C. Provide for a diversity of recreational opportunities.

D. Assure appropriate access to public and private lands.

E. Provide for adequate maintenance and administration of roads, trails and areas based on availability of resources and funding to do so.

F. Minimize damage to soil, vegetation and other forest resources.

G. Minimize impacts to wildlife and significant degradation of wildlife habitat.

H. Minimize conflicts between wheeled motor vehicle use and existing or proposed recreational uses of NFS lands or neighboring federal lands.

I. Minimize conflicts among different classes of wheeled motor vehicle uses of NFS lands or neighboring federal lands.

J. Address compatibility of wheeled motor vehicle use with existing conditions in populated areas, taking into account sound, emissions, etc.

K. Have valid existing rights of use and access (rights-of-way).

L. Minimize trespass on private and other adjacent non-NFS lands.

Proposed Action

1. Prohibition of wheeled motorized vehicle travel off the designated NFS roads, NFS trails and areas by the public except as allowed by permit or other authorization.

2. Additions to the National Forest Transportation System—The LNF currently manages and maintains approximately 3629 miles of NFS roads and 55 miles of NFS motorized trails. Based on the stated purpose and need for action, and as a result of the recent travel analysis process, the LNF proposes to add approximately 30 miles of existing unauthorized routes to its NF road system and approximately 7 miles to its NF motorized trail system. These additions would bring the total NFS roads to approximately 3,659 miles and the NFS motorized trails to 62 miles. The proposed additions to the additional NF road and NF motorized trail systems are listed below along with the permitted vehicle class and season of use.

Table 1.—Proposed NFS Motorized Road Additions
Route ID | Length (miles) | Permitted vehicle class | Season of use
290407UC01 | 0.4004 | All | Year round.
310716UC01 | 0.0107 | All | Year round.
310716UC02 | 0.0506 | All | Year round.
UBB412 | 0.0379 | All | Year round.
UBB414 | 0.8733 | All | Year round.
UBB416 | 0.1164 | All | Year round.
UBB685 | 0.0099 | All | Year round.
UBB686 | 0.0021 | All | Year round.
UBB707 | 0.0821 | All | Year round.
UBB707A | 0.0476 | All | Year round.
UBB752 | 0.0314 | All | Year round.
UBB797 | 0.0347 | All | Year round.
UBB798 | 0.1109 | All | Year round.
UBB799 | 0.0239 | All | Year round.
UBB800 | 0.2112 | All | Year round.
UBB806 | 0.0564 | All | Year round.
UBB809 | 0.82 | All | Year round.
UBC022 | 0.0348 | All | Year round.
UBC105 | 0.2778 | All | Year round.
UBC115 | 0.3238 | All | Year round.
ULA106 | 0.292 | All | Year round.
ULA107 | 0.2375 | All | Year round.
ULA113 | 0.1795 | All | Year round.
ULA114 | 0.2032 | All | Year round.
ULA115 | 0.1555 | All | Year round.
ULA120 | 0.1528 | All | Year round.
ULA121 | 0.3526 | All | Year round.
ULA121 | 0.0168 | All | Year round.
ULA121-1 | 0.1019 | All | Year round.
ULA122 | 0.0486 | All | Year round.
ULA123 | 0.1214 | All | Year round.
ULA124 | 0.1409 | All | Year round.
ULA127 | 0.9703 | All | Year round.
ULA136 | 0.0683 | All | Year round.
ULA156 | 0.1152 | All | Year round.
ULA158 | 0.0802 | All | Year round.
ULA163 | 0.0952 | All | Year round.
ULA164 | 0.0711 | All | Year round.
ULA171 | 0.3349 | All | Year round.
ULA252 | 0.0833 | All | Year round.
ULA254 | 0.0949 | All | Year round.
ULA257 | 0.2861 | All | Year round.
ULA272B | 0.5626 | All | Year round.
ULA488 | 0.1443 | All | Year round.
ULA488-1 | 0.1367 | All | Year round.
ULA489A | 0.0996 | All | Year round.
ULA489B | 0.081 | All | Year round.
UMN003 | 0.0659 | All | Year round.
UMN004 | 0.1862 | All | Year round.
UMN005 | 0.054 | All | Year round.
UMN008 | 0.3266 | All | Year round.
UMN009 | 0.2773 | All | Year round.
UMN010 | 0.0271 | All | Year round.
UMN012 | 0.0409 | All | Year round.
UMN805 | 0.5868 | All | Year round.
UNE080 | 0.1098 | All | Year round.
UNE087 | 0.0235 | All | Year round.
UNH001 | 1.0481 | All | Year round.
UNH006 | 1.1766 | All | Year round.
UNHO19 | 0.4891 | All | Year round.
UNH026 | 0.5648 | All | Year round.
UNH529 | 0.2216 | All | Year round.
UNH533 | 1.0575 | All | Year round.
UNH534 | 0.6381 | All | Year round.
UNH535 | 0.2756 | All | Year round.
UNH541 | 0.2311 | All | Year round.
UNH543 | 0.7002 | All | Year round.
UNH546 | 0.231 | All | Year round.
UNH548 | 0.7396 | All | Year round.
UNH550 | 0.2728 | All | Year round.
UNH552 | 0.0614 | All | Year round.
UNO170 | 0.8193 | All | Year round.
UNO171 | 0.5343 | All | Year round.
UN0178 | 0.5094 | All | Year round.
UNO180 | 0.3356 | All | Year round.
UN0216 | 0.3619 | All | Year round.
UN0219 | 0.106 | All | Year round.
UN0220 | 0.8504 | All | Year round.
UN0221 | 0.1942 | All | Year round.
UN0222 | 1.1577 | All | Year round.
UN0229 | 1.18 | All | Year round.
UN0230 | 0.1106 | All | Year round.
UN0275 | 0.4896 | All | Year round.
UNW100 | 0.4022 | All | Year round.
UNW113 | 0.2267 | All | Year round.
UNW318 | 0.1526 | All | Year round.
UNW337 | 0.1043 | All | Year round.
UNW338 | 0.7712 | All | Year round.
UNW339 | 0.2989 | All | Year round.
UNW340 | 0.3278 | All | Year round.
UNW342 | 0.1635 | All | Year round.
UNW353 | 0.2301 | All | Year round.
UNW355 | 0.5582 | All | Year round.
UNW356 | 0.443 | All | Year round.
UNW358 | 0.2471 | All | Year round.
UNW359 | 0.2005 | All | Year round.
UNW364 | 0.2813 | All | Year round.
UNW506C | 0.1385 | All | Year round.
UNW602 | 0.084 | All | Year round.
UNW675 | 0.1212 | All | Year round.
UNW676 | 0.1293 | All | Year round.
UNW804 | 0.2822 | All | Year round.
UNW805 | 0.3495 | All | Year round.
Total | 30.3383

Table 2.—Proposed NFS Motorized Trail Additions
Route ID | Length (miles) | Permitted vehicle class | Season of use
280310UC03 | 0.2306 | All* | Year round.
UAP205 | 0.0653 | Vehicles less than 50 inches in width | Year round.
UAP206 | 0.6591 | Vehicles less than 50 inches in width | Year round.
UBC046 | 0.0937 | All | Year round.
UBC053 | 0.5811 | All | Year round.
UBC057 | 0.2671 | All | Year round.
UBC058 | 0.3758 | All | Year round.
UDC001 | 0.0379 | All | Year round.
UDC002 | 0.0379 | All | Year round.
UDC003 | 0.0379 | All | Year round.
UDC004 | 0.0379 | All | Year round.
UDC009 | 0.0379 | All | Year round.
UDC010 | 0.0379 | All | Year round.
UDC011 | 0.0379 | All | Year round.
UDC012 | 0.0379 | All | Year round.
UDC013 | 0.0379 | All | Year round.
UDC014 | 0.0379 | All | Year round.
UDC015 | 0.0379 | All | Year round.
UDC016 | 0.0379 | All | Year round.
UDC017 | 0.0379 | All | Year round.
UDC021 | 0.0095 | All | Year round.
UDC022 | 0.0095 | All | Year round.
UDC023 | 0.0095 | All | Year round.
UDC024 | 0.0095 | All | Year round.
UDC045 | 0.0095 | All | Year round.
UDC046 | 0.0095 | All | Year round.
UDC049 | 0.0095 | All | Year round.
UDC047 | 0.0095 | All | Year round.
UDC048 | 0.0095 | All | Year round.
UDC052 | 0.0095 | All | Year round.
UDC053 | 0.0095 | All | Year round.
UDC054 | 0.0095 | All | Year round.
UDC055 | 0.0095 | All | Year round.
UDC056 | 0.0095 | All | Year round.
UDC057 | 0.0095 | All | Year round.
UDC058 | 0.0095 | All | Year round.
UDC059 | 0.0095 | All | Year round.
UDC060 | 0.0095 | All | Year round.
UDC061 | 0.0095 | All | Year round.
UDC062 | 0.0095 | All | Year round.
UDC063 | 0.0095 | All | Year round.
UDC064 | 0.0095 | All | Year round.
UDC065 | 0.0095 | All | Year round.
UDC066 | 0.0095 | All | Year round.
UDC067 | 0.0095 | All | Year round.
UDC025 | 0.0095 | All | Year round.
UDC026 | 0.0095 | All | Year round.
UDC027 | 0.0095 | All | Year round.
UDC028 | 0.0095 | All | Year round.
UDC034 | 0.0095 | All | Year round.
UDC044 | 0.0095 | All | Year round.
UDC031 | 0.0095 | All | Year round.
UDC032 | 0.0095 | All | Year round.
UDC043 | 0.0284 | All | Year round.
ULA172 | 0.9473 | Vehicles less than 50 inches in width | Year round.
ULA175 | 0.3724 | Vehicles less than 50 inches in width | Year round.
ULA177 | 0.4268 | Vehicles less than 50 inches in width | Year round.
ULA187 | 0.1228 | Motorcycle | Year round.
ULA190 | 0.9158 | All | Year round.
UNE392 | 0.3182 | All | Year round.
UNE394 | 0.9117 | All | Year round.
Total | 7.1223
*All approved motorized trail modes of travel.

3. Motorized Open Riding Area Additions—The Lassen National Forest currently has no areas designated open to wheeled motorized vehicle use. The Lassen National Forest proposes to designate 10 specifically delineated areas open to wheeled motorized vehicle travel for a total of 26 acres. The motorized areas are listed below along with the permitted vehicle class and season of use.

Table 3.—Proposed NFS Motorized Open Riding Area Additions
Area name | Acreage | Permitted vehicle class | Season of use
West Dusty Cinder Pit | 1.91 | Less than 50 inches | 4/1 to 11/1.
Lost Lake Cinder Pit | 2.54 | Less than 50 inches | 4/1 to 11/1.
West Brown Ranch | 1.76 | Less than 50 inches | 4/1 to 11/1.
Sandy Beach West | 1.10 | Less than 50 inches | 4/1 to 11/1.
Sandy Beach East | 4.96 | Less than 50 inches | 4/1 to 11/1.
East McCoy | 3.02 | All | 4/1 to 11/1.
South Old Station | 4.29 | All | 4/1 to 11/1.
Potato Butte | 4.32 | Less than 50 inches | 4/1 to 11/1.
Little Antelope Valley Pit | 0.85 | Less than 50 inches | 4/1 to 11/1.
Butte Valley | 1.13 | Less than 50 inches | 4/1 to 11/1.
Total | 25.88

4. Allowing Non-Highway Legal Vehicle Access on NFS Roads That Are Maintained for Use by Highway Legal Vehicles. The LNF believes the roads listed in the table below would enhance wheeled motorized recreation opportunities for the public if they were open to use by all vehicle classes. The LNF will evaluate the safety hazards associated with allowing highway legal and non-highway legal vehicle use by the public on these roads. The LNF may allow segments of these roads as open to all vehicles where it is determined that it will not create a traffic safety hazard or that hazards can be mitigated.

Table 4.—NFS Road Segments Currently Open to Highway Legal Vehicles Only Proposed for Designation as Open to All Vehicles
Route ID | Route segment | Length (miles) | Current permitted vehicle class | Proposed permitted vehicle class | Season of use
31N17/DR17 | From 30N17 to 31N45 (Dry Lake) | 1.83 | Highway legal only | All | Year round.
32N10/DR10 | From 32N10A to 31N24 (Silver Lake, Rocky Knoll) | 1.69 | Highway legal only | All | Year round.
32N10/DR10 | From 31N24 to 31N25 (Stephens Camp) | 1.15 | Highway legal only | All | Year round.
32N10C | (Caribou Lake Spur) | 0.18 | Highway legal only | All | Year round.
29N03 | From 29N20Y to 29N03B (Roxie Peconom) | 1.24 | Highway legal only | All | Year round.
32N08 | From CA 44 to 32N23 (Bogard Work Center) | 0.81 | Highway legal only | All | Year round.
32N10/DR10 | From CA 44 to 32N22 (Bogard Rest Area) | 1.34 | Highway legal only | All | Year round.
32N10/DR10 | From 31N15 to 31N28 (Stephens Camp) | 0.14 | Highway legal only | All | Year round.
32N22 | From 32N53 to UNE394 (Bogard Rest Area) | 0.19 | Highway legal only | All | Year round.
32N22 | From 32N10/DR10 to 32N29 (Bogard Rest Area) | 0.14 | Highway legal only | All | Year round.
32N60 | From 32N73Y to 32N73Y (Grays Flat) | 1.76 | Highway legal only | All | Year round.
32N12 | From 32N42Y to 31N13 (Twin Bridges) | 0,28 | Highway legal only | All | Year round.
32N12 | From 32N38 to 32N42Y (Twin Bridges, Badger Mountain north) | 1.60 | Highway legal only | All | Year round.
32N13 | From 32N12 to 32N12Y (Twin Bridges) | 1.46 | Highway legal only | All | Year round.
Total |  | 12.81

Maps and tables describing in detail both the LNF transportation system and the proposed action can found at: http://www.fs.fed.us/r5/1asses/12rotects/NEPA_proiectshoute/index.php.

In addition, maps will be available for viewing at:

Lassen National Forest, Region 5, 2550 Riverside Drive, Susanville, CA 96130.

Almanor Ranger District, 900 E. HWY 36, Chester, CA 96020.

Eagle Lake Ranger District, 477-050 Eagle Lake Road, Susanville, CA 96130.

Hat Creek Ranger District, 43225 E. HWY 299, Fall River Mills, CA 96028.

Responsible Official

Jack Walton, Acting Forest Supervisor, Supervisor's Office, Lassen National Forest, Region 5, 2550 Riverside Drive, Susanville, CA 96130.

Nature of Decision To Be Made

The responsible official will decide whether to adopt and implement the proposed action, an alternative to the proposed action, or take no action to make changes to the existing Lassen National Forest Transportation System and prohibit cross country wheeled motorized vehicle travel by the public off the designated system. Once the decision is made, the Lassen National Forest will publish a Motor Vehicle Use Map (MVUM) identifying the roads, trails and areas that are designated as open to the public for motor vehicle use. The MVUM shall specify the classes of vehicles and, if appropriate, the times of year for which use is authorized.

Scoping Process

Public participation will be especially important at several points during the analysis. The Forest Service will be seeking information, comments, and assistance from the federal, state, and local agencies and other individuals or organizations who may be interested in or affected by the proposed action.

The Notice of Intent is expected to be published in the Federal Register on October 24, 2007. The comment period on the proposed action will extend 30 days from the date the Notice of Intent is published in the Federal Register.

The draft environmental impact statement is expected to be filed with the Environmental Protection Agency (EPA) and to be available for public review by March 7, 2008. EPA will publish a notice of availability (NOA) of the draft EIS in the Federal Register. The comment period on the draft EIS will extend 45 days from the date the EPA publishes the NOA in the Federal Register. At that time, copies of the draft EIS will be distributed to interested and affected agencies, organizations, and members of the public for their review and comment. It is very important that those interested in the management of the Lassen National Forest participate at that time. Submission of comments in response to the draft EIS is a prerequisite for eligibility to appeal under the 36 CFR part 215 regulations.

The final EIS is scheduled to be completed in June 2008. In the final EIS, the Forest Service will respond to comments received during the comment period that pertain to the environmental consequences discussed in the draft EIS and applicable laws, regulations, and policies considered in making the decision.

Comment Requested

This notice of intent initiates the scoping process which guides the development of the environmental impact statement. Comments received, including the names and addresses of those who comment, will be considered part of the public record on this proposal and will be available for public inspection.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435U.S. 519, 553 (1978). Also, environmental objections that could be raised at the draft environmental impact statement stage, but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, section 21)

Jack T. Walton,
Acting, Lassen National Forest Supervisor.

[FR Doc. 07-5272 Filed 10-24-07; 8:45 am]

BILLING CODE 3410-11-M